ENVIRONMENTAL PROTECTION AGENCY

[Petitions IV-2023-1 and -3; FRL-11352-01-R4]

Clean Air Act Operating Permit Program; Order on Petitions for Objection to State Operating Permits for Plains Marketing LP, Alabama Bulk Terminal Company LLC, Kimberly-Clark Corporation, Epic Alabama Maritime Assets LLC Alabama Shipyards LLC, and UOP LLC (Mobile County, Alabama)

AGENCY: Environmental Protection Agency (EPA).

ACTION: Notice of final order on petitions.

SUMMARY: The EPA Administrator signed an order dated September 18, 2023, granting in part and denying in part the petitions dated January 4 and 9, 2023, from Greater-Birmingham Alliance to Stop Pollution, Mobile Environmental Justice Action Coalition, Clean Healthy Educated Safe Sustainable Africatown, and Mobile Alabama NAACP Unit #5044 Environmental and Climate Justice Committee. The petitions requested that EPA object to Clean Air Act (CAA) title V operating permits issued by the Alabama Department of Environmental Management (ADEM) to Plains Marketing Mobile Terminal at Magazine Point, Alabama Bulk Terminal Blakeley Island Terminal, Kimberly-Clark Mobile Operations, Epic Alabama Maritime Assets LLC Alabama Shipyard LLC, and UOP LLC Mobile Plant, all located in Mobile County, Alabama.

FOR FURTHER INFORMATION CONTACT: Art Hofmeister, Air Permits Section, EPA Region 4, at (404) 562-9115 or hofmeister.art@epa.gov. The final order and petitions are available at: https://www.epa.gov/title-v-operating-permits/title-v-petition-database.

SUPPLEMENTARY INFORMATION: EPA received petitions from Greater-Birmingham Alliance to Stop Pollution, Mobile Environmental Justice Action Coalition, Clean Healthy Educated Safe Sustainable Africatown, and Mobile Alabama NAACP Unit #5044 Environmental and Climate Justice Committee dated January 4 and 9, 2023, requesting that EPA object to the issuance by ADEM of operating permit nos. 503-3013 to Plains Marketing Mobile Terminal at Magazine Point, 503-3035 to Alabama Bulk Terminal Blakeley Island Terminal, 503-2012 to Kimberly-Clark Mobile Operations, 503-6001 to Epic Alabama Maritime Assets LLC Alabama Shipyard LLC, and 503-8010 to UOP LLC Mobile Plant, all located in Mobile County, Alabama. On September 18, 2023, the EPA Administrator issued an order granting in part and denying in part the petitions. The order itself explains the bases for EPA's decision. Sections 307(b) and 505(b)(2) of the CAA provide that a petitioner may request review of those portions of an order that deny issues in a petition. Any petition for review shall be filed in the United States Court of Appeals for the appropriate circuit within 60 days from the date this notice is published in the Federal Register.

Dated: October 4, 2023.
Jeaneanne Gettle,
Acting Regional Administrator, Region 4.

[FR Doc. 2023-23446 Filed 10-23-23; 8:45 am]

BILLING CODE 6560-50-P